SURFACE TRANSPORTATION BOARD

[Docket No. EP 724 (Sub-No. 3)]

United States Rail Service Issues—Data Collection

On November 30, 2016, the Board adopted a final rule to establish new regulations requiring all Class I railroads and the CTCO, through its Class I members, to report certain service performance metrics on a weekly, semiannual, and occasional basis. U.S. Rail Serv. Issues—Performance Data Reporting (November Decision), EP 724 (Sub-No. 4), slip op. at 1 (STB served Nov. 30, 2016). Also on November 30, 2016, the Board issued an order stating that upon the commencement of reporting under the Docket No. EP 724 (Sub-No. 4) final rule, reporting under U.S. Rail Serv. Issues—Data Collection (Interim Data Order), EP 724 (Sub-No. 3), slip op. at 2-5 (STB served Oct. 8, 2014) would no longer be necessary. See U.S. Rail Serv. Issues (Discontinuation Order), EP 724 et al., slip op. at 3 (STB served Nov. 30, 2016). The Board set February 1, 2017, as the final date for reporting under the Interim Data Order, January 29, 2017, as the effective date for the final rule, and February 2, 2017, as the date for discontinuing the proceeding in Docket No. 724 (Sub-No. 3). Discontinuation Order, slip op. at 3; November Order, slip op. at 1. The Board published the final rule and the discontinuation notice in the Federal Register on December 5, 2016. U.S. Rail Serv. Issues—Performance Data Reporting, 81 FR 87472 (Dec 5, 2016); U.S. Rail Serv. Issues, 81 FR 87647 (Dec. 5, 2016).

On January 20, 2017, a Memorandum for the Heads of Executive Departments and Agencies from Reince Priebus, Chief of Staff to President Trump, was issued.¹ Although the Board is an independent regulatory agency, in a separate decision published elsewhere in this issue of the Federal Register, and applicable January 27, 2017, it is staying 49 CFR part 1250, added in the December 5, 2016 final rule, in Docket No. EP 724 (Sub-No. 4) in accordance with the Memorandum's request that rules regarding certain rules already published in the Federal Register. U.S. Rail Serv. Issues—Data Collection, EP 724 (Sub-No. 3) et al., slip op. at 2 (STB served Jan. 27, 2017).² As a result of the stay, the final rule in Docket No. EP 724 (Sub-No. 4) adding part 1250 is suspended until March 21, 2017, and initial reporting will begin March 29, 2017. Id. Consistent with the Discontinuation Order, the effective date for discontinuing reporting under the Interim Data Order is extended to March 22, 2017, and the Docket No. EP 724 (Sub-No. 3) proceeding will be discontinued on March 23, 2017.³

¹ Reince Priebus, Memorandum for the Heads of Executive Departments and Agencies (Memorandum) (Jan. 20, 2017), http://www.whitehouse.gov/briefing-room/presidential-actions (follow hyperlink to Memorandum for the Heads of Executive Departments and Agencies).

² The entire decision is available on the Board's Web site by search at https://www.stb.gov/home.nsf/enhancedsearch?OpenForm.

³ The proceeding United States Rail Service Issues, Docket No. EP 724, will be discontinued effective February 2, 2017, as previously decided by the Board. U.S. Rail Serv. Issues, EP 724 et al., slip op. at 3.

It is ordered:

1. The final date for reporting under the Interim Data Order will be March 22, 2017.

2. The proceeding in Docket No. EP 724 (Sub-No. 3) will be discontinued as described above, effective March 23, 2017.

3. Notice of the Board's action will be published in the Federal Register.

Decided: January 27, 2017.
By the Board, Acting Chairman Begeman, Vice Chairman Miller, and Commissioner Elliott.
Brendetta S. Jones,
Clearance Clerk.

[FR Doc. 2017-02493 Filed 2-6-17; 8:45 am]

BILLING CODE 4915-01-P